DEPARTMENT OF AGRICULTURE

Forest Service

Request for Proposals: Developing Uses for Small-Diameter and Low-Valued Hardwoods and Softwoods

AGENCY: Forest Products Laboratory, Forest Service, USDA.

ACTION: Request for proposals.

SUMMARY: The USDA Forest Service, Forest Products Laboratory requests proposals for forest products demonstration projects related to using small- diameter material and low-valued trees removed from hazardous fuel reduction activities. These funds are targeted to help communities, entrepreneurs, and others turn this thinning material into marketable forest products. These projects may be in conjunction with hazardous fuel reduction projects or could use material already removed. The goals of the grant are the following:

• To provide technical assistance for processing and manufacturing of small-diameter or low-valued hardwoods and softwoods.

• To help local enterprises or communities develop prototypes of forest products that use small-diameter or low-valued hardwoods and softwoods.

• To develop demonstration projects showcasing innovative uses for the small-diameter or low-valued hardwood and softwood resource.

• To conduct economic feasibility assessments of proposed products.

• To evaluate markets and/or marketing of low-valued softwoods and hardwoods.

We are looking for creative solutions to address the nationwide challenge in dealing with low-valued hardwoods and softwoods. Examples include value-added processing, such as finger-jointing or edge-gluing short lumber for millwork, machine stress rating lumber for engineered wood products, small-scale bioenergy applications (less than 1 MW electrical or 10 million BTUs thermal), erosion control mats, wood shavings, engineered wood products, wood/plastic composites, and roundwood as structural building elements.

Funding may be allocated for such things as technical assistance, marketing, prototype development, engineering designs and plans, log-sort yards, feasibility studies, and construction of demonstration structures using roundwood. Attachment 1 contains examples of projects that were funded in Fiscal Year 2001.

1. Award Information

A total of $1 million is available for granting under this program. Individual grants or awards will not exceed $50,000. Successful applicants will receive their awards by September 1, 2002. The grant period will extend from the award date until December 31, 2003. Projects not completed within the award timeframe can be extended. Semi-annual program and financial written progress reports will be required.

2. Eligibility Information

a. Eligible Applicants

Include State, local, and tribal governments, communities, non-profit organizations, educational institutions, Resource Conservation and Development Councils, commercial and industrial organizations, small or disadvantaged businesses, and individuals.

b. Cost Sharing (Matching Requirement)

Applicants must demonstrate a 20% cost share from non-federal sources, which can include in-kind contributions. In-kind, or non-cash contributions, must be reasonable, allowable, and the recipient must be able to demonstrate in the application (as well as a possible audit) that all costs can be shown as actual costs to the recipient in performing the project.

i. All unit costs must be clearly identified in the budget justification and must be allowable, reasonable, and auditable.

ii. Funds paid by the Federal government under another award, unless otherwise authorized by Federal statute, may not be used for cost sharing or matching.

3. Application and Submission Information

a. Application Format

The application should be submitted as shown in Attachment 2, Grant Application Checklist, and should be printed on one side only. The application package should be clipped or stapled with a single staple at the upper left-hand corner. No other bindings should be made on the application package.

b. Detailed Description of Project Narrative

A detailed description of the Project Narrative presented in the checklist is included as Attachment 3 of this application.

4. Application Submission Guidelines and Deadline

Two (2) copies of the Application and Appendices must be received by 5 PM, COB, on Monday, July 15, 2002.

Proposals may NOT be sent facsimile (fax) or email. An original signature is necessary.

Incomplete applications will be rejected (please refer to Section 3 for instructions on format and requirements of the application).

Applications should be sent to:

Mailing Address: Forest Products Laboratory, ATT: Kathy Walker, One Gifford Pinchot Dr., Madison, WI 53726-2398.

Shipping Address (FedEx): Forest Products Laboratory, ATT: Kathy Walker, 507 Highland Ave., Madison, WI 53705.

5. Application Review Process

a. Evaluation Panel

An evaluation panel will be composed of Forest Service, university, and State forest products utilization and marketing specialists, community-based forestry partnership representatives, representatives of State Foresters, from across the country. No proposals will be accepted from organizations employing any of the panel members. The evaluation panel will conduct their reviews the first part of August.

b. Evaluation Criteria and Point System

The proposals will be reviewed using the following criteria:

• Relevance of project to meeting Request for Proposal goals (20 points)

• Linkage with regional hazardous fuel reduction, including forest health and stand vigor prescriptions (20 points)

• Adequacy of proposal description (15 points)

• Clarity and explanation of methods, techniques, expectations, and outcomes (15 points)

• Qualifications and experience of applicant (10 points)

• Feasibility (10 points)

• Realistic budget and timeframe (5 points)

• Novelty or uniqueness (3 points)

• Past efforts (if any) on proposed project (2 points)

c. Evaluation Process

Each panel member will independently review the proposal and rank each of the proposals according to the criteria and numerical rating system. A total of 100 points is possible. The scores from all panel members will be tabulated. The panel will then reconvene to discuss, rank, and recommend proposals to be funded. Panel members may make recommendations of alternative budgets for certain proposals, perhaps with suggestions on eliminating certain aspects of project. If that occurs, the applicant will be contacted to see if the recommendation by the panelists is agreeable. Proposals will be prioritized and awarded until funding limits is reached.

Attachment 1: Examples of Projects Previously Funded

• Professional engineering designs for two enclosed small-diameter, roundwood kiosks for Salt Lake City Winter Olympics, recreational building on the Wallowa Whitman NF, greenhouse for school in Catron County, pedestrian bridge and air-drying shed.

• Demonstration structures that use roundwood as a building element, such as trusses or I-beams.

• Prototype development and marketing opportunities of additional products that use juniper/plastic composites

• Economic and engineering feasibility of heating two schools in Montana with wood chips.

• Demonstration of small-scale modular energy units that use wood chips for producing electrical and thermal power

• Survey on potential market size for buildings that use roundwood as a structural building element.

• Evaluation of low-cost log profiling and sorting system to reduce sorting and handling costs in log-sort yard.

• Technical assistance on drying technologies for planning dry kiln.

• Technical assistance on potential timber bridge project.

• Technical assistance on sawmilling improvement at sawmill.

• Technical assistance on potential wood energy projects.

• Technical assistance on grading roundwood.

• Technical assistance on grade yields of small-diameter ponderosa pine.

Attachment 2: Grant Application Checklist

Content, Format, and Requirements

| Page
SF-424 Application for Federal Assistance | 1
SF-424a Budget Information—Non-Construction Programs | 2-3
AD-1047 Certification Regarding Debarment, Suspension, and Other Responsibility Matters—Primary Covered Transactions | 4
AD-1048 Certification Regarding Debarment, Suspension, Ineligibility and Voluntary Exclusion—Lower Tier Covered Transactions | 4
AD-1049 Certification Regarding Drug-Free Workplace Requirements Alternatives I—For Grantees Other Than Individuals (if applicable) | 5
AD-1050 Certification Regarding Drug-Free Workplace Requirements Alternative II—For Grantees Who Are Individuals | 5
Forms may be found on the Internet at http://www.fpl.fs.fed.us/tmu/rfp/application.htm.
(Note: See Attachment 3 for directions for completing the Detailed Project Narrative, Budget Justification, and Appendices.)
• Detailed Project Narrative (Limit to 5 pages)
• Project Title
• Statement of Need (Describe the existing situation and what needs to be done)
• Project Coordinators and Partners
• Goals and Objectives
• Work Plan, Products, or Outcomes
• Describe course of action to accomplih goal
• Decribe how actions are consistent with program guidelines and direction for use of funds
• Timetable
• Response to evaluation criteria
• Evaluation and Monitoring (Describe how progress and successful achievement of objectiveswill be measures)
• Project and/or Proponent History
• Budget Justification (Including match)
• Appendices
1. Key Personnel Qualifications (Limit to 2 pages)
(Describe qualifications of all key personnel or organizations involved in accomplishing the objective)
2. Letters of Support
(Letters of support are needed for cooperators. Other letters of support will aid in the review and evaluation.)

Attachment 3: Directions for Completing Project Narrative, Budget Justification, and Appendices

Project Narrative

The entire narrative section of the proposal is limited to five (5) single-spaced, one-sided pages. The narrative must be submitted onplain white papper that measures 8.5 by 11 inches with a minimum font size of 12. Top, bottom, and side margins must be no less than one (1) inch.

Project Title: The project title should be short (not to exceed 80 characters) but descriptive of the project.

Statement of Need: The statement of need should serve to describe the existing circumstances and what needs to be done to correct situation. The applicant should be specific and present definite actions that can be taken to accomplish project. This section could include geographic area, including local agency, community(s) served, county, state, and cooperating partners that are affected by circumstances.

Project Coordinator(s) and Partner(s): This section identifies the project coordinator(s) and describes the role that each will play in meeting the objectives of the project. Qualifications of these individuals should be listed in the Appendix under Key Personnel Qualifications. Partners to the project, whether directly or indirectly involved, should be identified and their respective role and contribution should be described. Partners, whether individuals or organizations, should provide Letters of Support and should be actively involved in helping to meet the objectives of the project.

Goals and Objectives: The proposal should present and describe specific project goals for meeting the needs identified. Project goals should be consistent with the program goals of this Request for Proposals.

Work Plan, Product, and/or Outcomes: The applicant should describe the specific course of action(s) that will be taken to accomplish the stated goal(s), including the techniques or methods that will be used. A work plan and timetable for accomplishing each of the major actions should be presented. The proposal should also describe the specific product and/or outcomes that are expected as a result of this funding. Both direct and indirect benefits should be displayed. The proposal should also identify technical assistance needs to implement project. Phases of the project, that is, year 1, year 2, etc., and the associated activities and costs with each year, should be displayed. The actions presented in the work plan should correlate to the budget package presented in the application.

Evaluation and Monitoring: The applicant should describe how the progress would be monitored and what measures will be used to evaluate the degree of progress and success of the project. The monitoring and measurement of achievements should be correlated to the work plan and the various phases of implementation associated with the project.

Project and/or Proponent History: The applicant should provide a brief history of any activities related to this project.

Budget Justification

The budget justification must be limited to one (1) page. Budget justification should contain itemized details of the line items presented. The budget line items should coincide with the work elements provided in the Work Plan. The detailed budget and budget justification should provide sufficient details (e.g., personnel, equipment, consultants, supplies, administration, partnership contributions) to reflect costs needed to complete activities identified in the work plan. Matching amounts, if listed as in-kind contributions (e.g., personnel time, donated equipment, materials, matching non-federal grants), should be based on realistic calculated values. Costs should also provide enough detail to determine if they are reasonable and allowable. The budget should also identify the source of non-federal resources and the ability to meet matching requirements.

Appendices

Key Personnel Qualifications: Qualifications of the project manager should be included in an appendix. Qualifications are limited to two (2) pages in length and should contain the following: resume, biographical sketch, references, and demonstrated ability to manage the grant.

Letters of Support: Letters of support should be included in an appendix and are intended to display the degree of collaboration occurring between the different entities engaged in the project. These letters must include commitments of cash or in-kind services from all partners and must support the amounts listed in the budget. Each letter of support should be limited to one (1) page in length.

Authority: 16 U.S.C. 2101-2110.

Dated: June 3, 2002.
Sherrie L. Rasmussen,
Acting Director.

[FR Doc. 02-14541 Filed 6-10-02; 8:45 am]

BILLING CODE 3410-11-M